DEPARTMENT OF TRANSPORTATION

National Highway Traffic Safety Administration

[Docket No. NHTSA-2011-0130]

Reports, Forms and Record Keeping Requirements; Agency Information Collection Activity Under OMB Review

AGENCY: National Highway Traffic Safety Administration (NHTSA), Department of Transportation (DOT).

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on September 8, 2011 [FR Doc. 2010-0130-0001].

DATES: Comments must be submitted on or before January 5, 2012.

FOR FURTHER INFORMATION CONTACT: Mike Joyce, Marketing Specialist, Office of Communications and Consumer Information (NPO-520), National Highway Traffic Safety Administration, 1200 New Jersey Ave. SE., W52-238, Washington, DC 20590. Mike Joyce's phone number is (202) 366-5600 and his email address is Mike.Joyce@dot.gov.

SUPPLEMENTARY INFORMATION: In compliance with the Paperwork Reduction Act of 1995, NHTSA published a 60-day notice for public comment on September 8, 2011 announcing the intent to conduct consumer research. All comments received were reviewed and taken into consideration when preparing the final ICR for OMB review. This notice announces that the ICR, abstracted below, has been forwarded to OMB requesting review and comment. The ICR describes the nature of the information collection and its expected burden. This is a request for new collection.

Title: Monroney Label Consumer Research.

OMB Number: Not Assigned.

Type of Request: New collection.

Abstract: The National Highway Traffic Safety Administration (NHTSA) was established by the Highway Safety Act of 1970 (23 U.S.C. 101) to carry out a Congressional mandate to reduce the mounting number of deaths, injuries, and economic losses resulting from motor vehicle crashes on the Nation's highways. In support of this mission, NHTSA proposes to conduct a limited number of focus group sessions with members of the general public to help inform future revisions to the Monroney label and guide the development of a consumer education program. In this collection of information, NHTSA is requesting to explore how consumers evaluate the Monroney label, and comprehension of the 5-Star Safety Ratings and understand the potential tradeoffs consumers make among the items included on the Monroney label. The research will also consider the location and size of the safety rating label and compare with other areas of the Monroney label and explore adding the advanced crash avoidance safety information to the safety rating label. Additional areas of exploration will be evaluated, including:

(i) Vehicle purchase decision-making criteria;

(ii) Sources of vehicle safety information;

(iii) Monroney label content, comprehension and potential tradeoffs; and,

(iv) New changes to the safety rating section of the Monroney label to help inform future revisions.

Description of the Need for the Information and the Proposed Use of the Information: NHTSA must explore how safety information impacts vehicle purchase decisions, where consumers look for safety information and how consumers use safety and other information located on the Monroney label in their purchase decisions, which will help inform future revisions to the Monroney label. Additionally, NHTSA will use this research to discuss potential communication channels in order to guide the development of a consumer education program.

Affected Public: Passenger vehicle consumers.

Estimated Total Annual Burden: 180 hours.

Number of Respondents: 80.

NHTSA will conduct two research phases. For the first phase, which this notice addresses, NHTSA will conduct one type of qualitative research. This research project will consist of two (2) focus groups in five (5) cities for a maximum of ten (10) focus group sessions, lasting 120 minutes and will be held with eight (8) participants in each session. Participation by all respondents would be voluntary, and respondents will receive $75 for their participation. For recruiting of these participants, however, a total of 120 potential participants (12 per group) will be recruited via telephone screening calls, which are estimated to take 10 minutes per call. Based on experience, it is prudent to recruit up to 12 people per group in order to ensure at least 8 will actually appear at the focus group facility at the appointed time. Thus, the total burden per person actually participating in the group discussions is estimated to be 130 minutes (10 minutes for the screening/recruiting telephone call plus 120 minutes in the focus group discussion session). Additionally, the total burden per person recruited (but not participating in the discussions) is 10 minutes.

Comments Are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

ADDRESSES: Send comments, within 30 days, to the Office of Information and Regulatory Affairs, Office of Management and Budget, 725-17th Street NW., Washington, DC 20503, Attention NHTSA Desk Officer.

Issued in Washington, DC, on: November 29, 2011.
Gregory A. Walter,
Senior Associate Administrator, Policy and Operations.

[FR Doc. 2011-31197 Filed 12-5-11; 8:45 am]

BILLING CODE 4910-59-P